NEIGHBORHOOD REINVESTMENT CORPORATION

Board of Directors Audit Committee Meeting; Sunshine Act

TIME AND DATE: 1 p.m., Tuesday, November 22, 2011.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call To Order

II. Executive Session with Internal Audit Director

III. Executive Session Related to Pending Litigation

IV. Internal Audit Report with Management's Response

V. FY '12 Risk Assessment and Internal Audit Plan

VI. FY '12 EHLP Risk Assessment and Internal Audit Plan

VII. Five Year Internal Audit Plan Projects

VIII. External Business Relationships

IX. Internal Audit Status Reports

X. National Foreclosure Mitigation Counseling (NFMC)/Emergency Homeowners Loan Program (EHLP) Update

XI. CFO Update

XII. OHTS Watch List

XIII. Adjournment

Erica Hall,
Assistant Corporate Secretary.

[FR Doc. 2011-30256 Filed 11-18-11; 4:15 pm]

BILLING CODE 7570-02-P